DEPARTMENT OF HEALTH AND HUMAN SERVICES

Centers for Disease Control and Prevention

[Program Announcement 00130]

HIV/AIDS Prevention Program Development and Technical Assistant Collaboration with Countries Targeted by the Leadership and Investment in Fighting the Epidemic (LIFE) Initiative; Notice of Availability of Funds

A. Purpose

The Centers for Disease Control and Prevention (CDC) announces the availability of fiscal year (FY) 2000 funds for a cooperative agreement program for HIV/AIDS Prevention Program Development and Technical Assistance Collaboration with Countries Targeted by the LIFE (Leadership and Investment in Fighting an Epidemic) Initiative.

In July 1999, the Administration announced the LIFE Initiative to address the global AIDS pandemic. The LIFE initiative, an effort to expand and intensify the global response to the growing AIDS pandemic and its serious impact, is part of the United States (U.S.) Government's participation in the International Partnership Against HIV/AIDS in Africa (IPAA). A central feature of the LIFE Initiative is a $100 million increase in U.S. support for sub-Saharan African countries and India, which are working to prevent the further spread of HIV and to care for those affected by this devastating disease. This additional funding is a critical step by the U.S. Government in recognizing the impact that AIDS continues to have on individuals, families, communities, and nations and responding to the imperative to do more. The Department of Health and Human Services (HHS), through the Centers for Disease Control and Prevention (CDC) is administering $35 million of the $100 million allocated to the LIFE Initiative by Congress.

The purpose of the program is to support HIV/AIDS prevention program development and technical assistance for countries designated by the U.S. Congress under the LIFE Initiative. At present, those countries are Botswana, Cote D'Ivoire, Kenya, South Africa, Uganda, Rwanda, Zimbabwe, Ethiopia, Mozambique, Malawi, Tanzania, Nigeria, Senegal, Zambia and India. The countries targeted represent those with the most severe epidemic and the highest number of new infections. They also represent countries where the potential for impact is greatest and where U.S. government agencies are already active.

The goals of the program are to address and support three program elements of the LIFE initiative: Primary Prevention, Capacity and Infrastructure Development, and Community and Home-Based Care and Treatment. The program described in this announcement calls for the delivery of HIV/AIDS prevention program development and technical assistance to the LIFE countries through a variety of recipient activities. The result will be enhancement of the skills of officials from LIFE country national AIDS program in strategic planning, implementation, evaluation, and communication relating to HIV/AIDS prevention and care programs.

B. Eligible Applicant

Assistance will be provided only to the National Alliance of State and Territorial AIDS Directors (NASTAD) for this project. No other applications are solicited or will be accepted. This announcement and application will be sent to NASTAD. NASTAD is the appropriate and only qualified agency to provide the services specified under this cooperative agreement because:

1. NASTAD is the only officially established organization that represents the State and Territorial AIDS Directors in all 50 U.S. States and all U.S. Territories. As such, it represents the officials from throughout the U.S. who have responsibility for designing, implementing, and evaluating HIV/AIDS prevention programs protecting the health of U.S. citizens against the threat of HIV and acquired immunodeficiency syndrome (AIDS). This place NASTAD in a unique position to act as a liaison between state and territorial HIV/AIDS prevention programs and LIFE country public health officials. In addition, the same set of knowledge, skills, and abilities NASTAD has developed in working with State and Territorial AIDS Directors are of critical importance in improving the technical capacity of national AIDS control programs in African countries and India.

2. Health threats such as HIV are not confined by geographic boundaries. NASTAD was formed to promote coordination of HIV/AIDS prevention efforts among the States and territories. The organization is uniquely positioned to collaborate not only with national organizations, including Federal agencies, but also with national AIDS control program officials in the LIFE countries, on policy and program issues from a U.S. government model, multi-state perspective. In this collaboration NASTAD is positioned to monitor, assess, and improve HIV/AIDS prevention program design, implementation, and evaluation in the LIFE countries.

3. In the U.S., NASTAD coordinates the effort of HIV/AIDS Prevention Program Directors, who work together with CDC to monitor the implementation of prevention programs across States and territories, assess the impact of prevention programs, share successes and challenges, monitor issues and obstacles to implementation of effective interventions, provide technical assistance and consult with CDC, one another, and other governmental and non-governmental prevention partners on these issues. Therefore, NASTAD possesses unique knowledge and insight that can be applied to the LIFE initiative through the provision of technical assistance aimed at strengthening the ability of national AIDS control programs to develop HIV/AIDS prevention programs based on the best practices of U.S. State and territory programs.

4. NASTAD represents the nation's HIV/AIDS Prevention Program Directors who have responsibility for HIV prevention within their jurisdictions, and whose mission is to work collaboratively with individual AIDS Directors to provide multi-jurisdiction perspectives and translate knowledge, skills, and abilities to State AIDS control programs. Thus NASTAD is in a unique position to facilitate the transfer of the same body of knowledge, skills and abilities to national AIDS control program officials in the LIFE countries.

5. NASTAD has already established mechanisms for communicating HIV/AIDS prevention information to the States and the political subdivisions of the States that carry out the nation's HIV/AIDS prevention programs. These mechanisms can serve as models to exchange information between the States and public health officials in the LIFE countries to identify and develop effective prevention information networks and dissemination systems. Because of their experience and established communications mechanisms, NASTAD is in a unique position to assist national AIDS control program officials with the dissemination of HIV/AIDS prevention information.

Note: Public Law 104-65 states than an organization described in section 501(c)(4) of the Internal Revenue Code of 1986 that engages in lobbying activities is not eligible to receive Federal funds constituting an award, grant, cooperative agreement, contract, loan or any other form.

C. Availability of Funds

Approximately $500,000 is available in FY 2000 to support this award. It is expected that the award will begin on or about September 30, 2000 and will be made for a 12-month budget period within a project period of up to 3 years. Funding estimates may change. Continuation awards within an approved project period will be made on the basis of satisfactory progress as evidenced by required reports and the availability of funds.

Use of Funds

Funds received from this announcement will not be used for the purchase of antiretroviral drugs for treatment of established HIV infection, occupational exposures, and non-occupational exposures and will not be used for the purchase of machines and reagents to conduct the necessary laboratory monitoring for patient care.

Peer-to-peer training, technical assistance, and other activities (including but not limited to those described below under Program Requirements—Recipient Activities) conducted outside the U.S. by persons under this award are limited to forty-five (45) days per person per year.

Applicant may contract with other organizations under these cooperative agreements, however, the applicant must perform a substantial portion of the activities (including program management and operations and delivery of prevention services for which funds are requested).

D. Where to Obtain Additional Information

This and other CDC announcements can be found on the CDC home page Internet address—http://www.cdc.gov. Scroll down the page, then click on “Funding” then “Grants and Cooperative Agreements.”

To receive additional written information and to request an application kit, call 1-888-GRANTS (1-888 472-6874). You will be asked to leave your name and address and will be instructed to identify the Announcement number of interest.

If you have questions after reviewing the contents of all the documents, business management technical assistance may be obtained from: Sharon Robertson, Grants Management Specialist, Centers for Disease Control and Prevention (CDC), Procurement and Grants Office, Room 3000, 2920 Brandywine Road, Mailstop E-15, Atlanta, GA 30341-4146, Telephone: (770) 488-2782, E-mail: sqr2@cdc.gov

Programmatic technical information may be obtained from: Leo Weakland, Deputy Coordinator, Global AIDS Activity (GAA), National Center for HIV, STD, and TB Prevention, Centers for Disease Control and Prevention (CDC), 1600 Clifton Road, Mailstop E-07, Atlanta, GA 30333, Telephone number (404) 639-8016, Email address: lfw0@cdc.gov

Dated: July 10, 2000.
John L. Williams,
Director, Procurement and Grants Office, Centers for Disease Control and Prevention (CDC).

[FR Doc. 00-17836 Filed 7-13-00; 8:45 am]

BILLING CODE 4163-18-M